DEPARTMENT OF THE INTERIOR

Fish and Wildlife Service

Notice of Availability of the Tumbling Creek Cavesnail (Antrobia culveri) Draft Recovery Plan for Review and Comment

AGENCY: Fish and Wildlife Service, Interior.

ACTION: Notice of document availability.

SUMMARY: The U.S. Fish and Wildlife Service (Service) announces availability for public review of the draft recovery plan for the Tumbling Creek cavesnail (Antrobia culveri), a species that is federally listed as endangered under the Endangered Species Act of 1973 (Act), as amended (16 U.S.C. 1531 et. seq.). The purpose of this plan is to recover this species in order that it can be removed from the list of Threatened and Endangered Species. This species occurs only in Tumbling Creek Cave in Taney County, Missouri. The Service solicits review and comment from the public on this draft plan.

DATES: Comments on the draft recovery plan must be received on or before August 11, 2003.

ADDRESSES: Persons wishing to review the draft recovery plan may obtain a copy by contacting the Field Supervisor, U.S. Fish and Wildlife Service, Columbia, Missouri Ecological Services Field Office, 608 E. Cherry St., Room 200, Columbia, Missouri 65201-7712 or by accessing the Web site: http://midwest.fws.gov/Endangered.

FOR FURTHER INFORMATION CONTACT: Dr. Paul McKenzie at the above address, or telephone at (573) 876-1911, ext. 107. TTY users may contact Dr. McKenzie through the Federal Relay Service at (800) 877-8339.

SUPPLEMENTARY INFORMATION:

Background

Restoring an endangered or threatened animal or plant to the point where it is again a secure, self-sustaining member of its ecosystem is a primary goal of the Service's endangered species program. To help guide the recovery effort, the Service is working to prepare recovery plans for most of the federally listed threatened and endangered species native to the United States. Recovery plans describe actions considered necessary for conservation of the species, establish criteria for reclassification and delisting, and provide estimates of the time and costs for implementing the recovery measures needed.

The Act requires the development of recovery plans for listed species unless such a plan would not promote the conservation of a particular species. Section 4(f) of the Act, as amended in 1988, requires that public notice and opportunity for public review and comment be provided during recovery plan development. The Service will consider all information presented during a public comment period prior to approval of each new or revised recovery plan. The Service and other Federal agencies will also take these comments into consideration in the course of implementing approved recovery plans.

The Tumbling Creek cavesnail was listed as endangered on August 14, 2002. The number of cavesnails has significantly decreased over the past few decades, to the point where only one individual was found within survey areas between January 11, 2001, and April 22, 2003. A small population containing approximately 40 individuals exists in a small area upstream of the area that is regularly surveyed. Tumbling Creek cavesnail lives on the underside of rocks in areas of Tumbling Creek that have little or no silt. Little is known about the species and its life history, but it is believed to feed on microscopic animals in the stream. Although the exact reason for this species' precipitous decline is unknown, it is believed to be linked to habitat degradation through diminished water quality from upstream locations within the cave's delineated recharge zone.

We propose that the Tumbling Creek cavesnail be considered for reclassification from endangered to threatened when the following criteria have been met: (1) The population is stable or increasing for 10 consecutive years with at least 1,500 individuals; the population shall be considered stable when a linear regression analysis of population numbers estimated within an established survey area reveals no significant decline in numbers; (2) a minimum of 80% of the surface habitat within the recharge area of Tumbling Creek Cave, including a minimum of 75% of all riparian corridors, sinkholes, and losing streams, is properly managed, restored, rehabilitated, or stabilized through long-term voluntary land owner agreements, such as stewardship plans, easements, or memorandums of agreements that promote best management practices; and (3) water quality monitoring including, but not limited to, Tumbling Creek, fails to detect any contaminant or water quality parameter likely to be detrimental to the species for five consecutive years following established water quality criteria set by the Environmental Protection Agency (EPA), and criteria for sediment and suspended organic matter deposition established by EPA are not exceeded for five consecutive years.

We propose that the Tumbling Creek cavesnail be considered for delisting when the downlisting criteria have been met and the following additional criteria have been achieved: (1) The population is stable or increasing for an additional 10 consecutive years with at least 5,000 individuals; the population shall be considered stable when a linear regression analysis of population numbers estimated within an established survey area reveals no significant decline in numbers; (2) a minimum of 90% of the surface habitat within the recharge area of Tumbling Creek Cave, including a minimum of 85% of all riparian corridors, sinkholes, and losing streams, is properly managed, restored, rehabilitated, or stabilized through long-term voluntary land owner agreements, such as stewardship plans, easements, or memorandums of agreements that promote best management practices; and (3) water quality monitoring including, but not limited to, Tumbling Creek, fails to detect any contaminant or water quality parameter likely to be detrimental to the species for an additional five consecutive years following established water quality criteria set by EPA, and criteria for sediment and suspended organic matter deposition established by EPA are not exceeded for an additional five consecutive years.

Because an estimated 75% of the 9.02 square-mile delineated recharge area of Tumbling Creek Cave is under private ownership, many of recovery actions proposed in the draft recovery plan focus on working cooperatively with private land owners to help facilitate recovery of the Tumbling Creek cavesnail. Such cooperation can be achieved by: (1) Encouraging the voluntary enrollment of private land owners into landowner incentive programs that promote good land use while providing financial and technical assistance to participating enrollees, or (2) through voluntary land management agreements that promote beneficial land management practices. Approximately 25% of the recharge area for Tumbling Creek Cave is managed by multiple Federal agencies that have jurisdictional responsibilities under the Act. Such agencies will be encouraged to develop management plans that will contribute to their responsibilities under sections 2(c)(1) and 7(a)(1) of the Act to carry out programs that will assist in the recovery of the Tumbling Creek cavesnail.

Public Comments Solicited

The Service solicits written comments on the proposed draft recovery plan. All comments received by the date specified will be considered prior to approval of the plan. Written comments and materials regarding the plan should be sent to the Field Supervisor, Ecological Services Field Office, and comments received will be available for public inspection by appointment during normal business hours (see ADDRESSES section.)

Authority: The authority for this action is section 4 (f) of the Endangered Species Act, 16 U.S.C. 1533(f).

Dated: June 18, 2003.
Charles M. Wooley,
Assistant Regional Director, Ecological Services, Region 3.

[FR Doc. 03-17565 Filed 7-10-03; 8:45 am]

BILLING CODE 4310-55-P